DEPARTMENT OF THE INTERIOR

Bureau of Land Management

[AZ-010-1430-01; AZA-28743]

Notice of Realty Action; Arizona

AGENCY: Bureau of Land Management, Interior.

ACTION: Notice.

SUMMARY: The following land has been found suitable for direct sale under Section 203 of the Federal Land Policy and Management Act of 1976 (90 Stat. 2750, 43 U.S.C. 1713), at not less than the estimated fair market value of $21,000. The land will not be offered for sale until at least 60 days after the date of this notice.

Gila and Salt River Meridian, Arizona

T. 39 N., R. 7 E.,

Sec. 4, Lots 14, 15, and 18, inclusive.

Containing 22.72 acres.

The land described is hereby segregated from appropriation under the public land laws, including the mining laws, pending disposition of this action or 270 days from the date of publication of this notice, whichever occurs first.

This land is being offered by direct sale to Marble Canyon Company, Marble Canyon, Arizona, who own that portion of the Marble Canyon Airstrip which is located on the subject parcel. The parcel has been leased for airstrip purposes since the early 1950s.

The sale would be for the surface estate only. The patent, when issued, will contain certain reservations to the United States and will be subject to a restrictive covenant to protect scenic values of the area.

DATES: Interested parties may submit comments on or before December 28, 2000 to the Field Manager, Arizona Strip Field Office at the address below. In the absence of timely objections, this proposal shall become the final determination of the Department of the Interior.

ADDRESSES: Detailed information concerning the reservations, as well as, specific conditions of the sale are available for review at the Arizona Strip Field Office, Bureau of Land Management, 345 East Riverside Drive, St. George, Utah 84790.

FOR FURTHER INFORMATION CONTACT: Laurie Ford, Realty Specialist, at the address listed above or phone (435) 688-3271.

Dated: October 31, 2000.
Roger G. Taylor,
Arizona Strip Field Manager.

[FR Doc. 00-28983 Filed 11-9-00; 8:45 am]

BILLING CODE 4310-32-P